DEPARTMENT OF ENERGY

Federal Energy Regulatory Commission

Notice of Application Ready for Environmental Analysis and Soliciting Comments, Recommendations, Terms and Conditions, and Prescriptions

April 4, 2002.

Take notice that the following hydroelectric application has been filed with the Commission and is available for public inspection.

a. Type of Application: Original Major License.

b. Project No.: P-12020-000.

c. Date filed: May 14, 2001.

d. Applicant: Marseilles Hydro Power, LLC.

e. Name of Project: Marseilles Hydroelectric Project.

f. Location: On the Illinois River, in the Town of Marseilles, La Salle County, Illinois. The project affects 0.6 acres of public lands owned by the U.S. Army Corps of Engineers.

g. Filed Pursuant to: Federal Power Act 16 USC 791 (a)—825(r).

h. Applicant Contact: Mr. Loyal Gake, P.E., Marseilles Hyro Power, LLC, 116 State Street, P.O. Box 167, Neshkoro, WI 54960.

i. FERC Contact: Steve Kartalia, (202) 219-2942 or stephen.kartalia@ferc.gov

j. Deadline for filing comments, recommendations, terms and conditions, and prescriptions: 60 days from the issuance of this notice.

All documents (original and eight copies) should be filed with: Magalie R. Salas, Secretary, Federal Energy Regulatory Commission, 888 First Street, NE, Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. See 18 CFR 385.2001(a)(1)(iii) and the instructions on the Commission's web site (http://www.ferc.gov) under the “e-Filing” link.

k. This application has been accepted and is now ready for environmental analysis.

l. The Marseilles Hydroelectric Project utilizes the Marseilles Dam and Reservoir which is owned and operated by the U.S. Army Corps of Engineers. The existing run-of-river project consists of: (1) A 55-foot-high by 40-foot-wide by 229-foot-long reinforced concrete powerhouse, housing thirteen generating units for a total installed capacity of 4,745-kW; (2) a head gate structure consisting of a fixed dam approximately 95 feet long on the left (west) side and two steel 15-foot-high and 60-foot-wide gates on the right (east) side; (3) the North Channel Headrace which is approximately 2,730-foot-long, 15-foot-deep, and varies between 80- to 200-foot-wide and conveys water from the head gates to the powerhouse; (4) a new 210-foot-long trash racks along the upstream side of the forebay area set at 10-degree angle in 18 feet of water with an additional set of 40-foot-long trash racks along the wall between the turbine forebay and the sluiceway on the right (west) side of the powerhouse and set vertically in 15 feet of water; and (5) appurtenant facilities.

The applicant proposes to rebuild the project in two phases: (a) In the first phase, seven generating units will be restored to operation; and (b) in the second phase, six generating units will be purchased and installed in restored turbine bays. The total project capacity will be 4,745 kW with an annual average generation of 34,000 MWh.

m. A copy of the application is on file with the Commission and is available for public inspection. This filing may also be viewed on the web at http://www.ferc.gov using the “RIMS” link—select “Docket #” and follow the instructions (call 202-208-2222 for assistance). A copy is also available for inspection and reproduction at the address in item h above.

n. Public notice of the filing of the initial development application, which has already been given, established the due date for filing competing applications or notices of intent. Under the Commission's regulations, any competing development application must be filed in response to and in compliance with public notice of the initial development application. No competing applications or notices of intent may be filed in response to this notice.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Deputy Secretary.

[FR Doc. 02-8651 Filed 4-9-02; 8:45 am]

BILLING CODE 6717-01-P